DEPARTMENT OF THE INTERIOR

National Park Service

[2253-665]

Notice of Inventory Completion: Minnesota Indian Affairs Council, Bemidji, MN

AGENCY: National Park Service, Interior.

ACTION: Notice.

SUMMARY: The Minnesota Indian Affairs Council has completed an inventory of human remains, in consultation with the appropriate Indian tribes, and has determined that there is no cultural affiliation between the remains and any present-day Indian tribe. Representatives of any Indian tribe that believes itself to be culturally affiliated with the human remains may contact the Minnesota Indian Affairs Council. Disposition of the human remains to the Indian tribes stated below may occur if no additional requestors come forward.

DATES: Representatives of any Indian tribe that believes it has a cultural affiliation with the human remains should contact the Minnesota Indian Affairs Council at the address below by February 13, 2012.

ADDRESSES: James L. (Jim) Jones, Cultural Resource Director, Minnesota Indian Affairs Council, 3801 Bemidji Avenue NW., Suite 5, Bemidji, MN 56601, telephone (218) 755-3223.

SUPPLEMENTARY INFORMATION: Notice is here given in accordance with the Native American Graves Protection and Repatriation Act (NAGPRA), 25 U.S.C. 3003, of the completion of an inventory of human remains in the possession of the Minnesota Indian Affairs Council (MIAC). The human remains were removed from Clearwater County, MN.

This notice is published as part of the National Park Service's administrative responsibilities under NAGPRA, 25 U.S.C. 3003(d)(3) and 43 CFR 10.11(d). The determinations in this notice are the sole responsibility of the museum, institution, or Federal agency that has control of the Native American human remains. The National Park Service is not responsible for the determinations in this notice.

Consultation

A detailed assessment of the human remains was made by the Minnesota Indian Affairs Council professional staff in consultation with representatives of the Leech Lake Band of the Minnesota Chippewa Tribe, Minnesota; the Minnesota Chippewa Tribe, Minnesota; the Red Lake Band of Chippewa Indians, Minnesota; the Turtle Mountain Band of Chippewa Indians of North Dakota; and the White Earth Band of Minnesota Chippewa Tribe, Minnesota.

History and Description of the Remains

At an unknown date, human remains representing three individuals were recovered from site 21-CE-4, Upper Rice Lake during archeological excavation by the University of Minnesota (UM641). In 1989, the human remains were transferred to the MIAC. No known individuals were identified. No associated funerary objects are present.

The condition of the human remains and the dental morphology identify these human remains as American Indian from the pre-contact period. Site 2-CE-4 is identified with the Late Woodland Tradition based on cultural materials, including ceramics. The human remains from the site are associated with the Late Woodland Tradition, a broad archeological classification which cannot be associated with any present-day Indian tribe. The geographical location of site 21-CE-4 is on the tribal land of the White Earth Band of Minnesota Chippewa Tribe, Minnesota.

Determinations Made by the Minnesota Indian Affairs Council

Officials of the MIAC have determined that:

• Based on non-destructive physical analysis and catalogue records, the human remains are Native American.

• Pursuant to 25 U.S.C. 3001(2), a relationship of shared group identity cannot be reasonably traced between the Native American human remains and any present-day Indian tribe.

• According to final judgments of the Indian Claims Commission, the land from which the Native American human remains were removed is the tribal land of the White Earth Band of Minnesota Chippewa Tribe, Minnesota.

• Pursuant to 25 U.S.C. 3001(9), the human remains described in this notice represent the physical remains of three individuals of Native American ancestry.

• Pursuant to 43 CFR 10.11(c)(1), the disposition of the human remains is to the White Earth Band of Minnesota Chippewa Tribe, Minnesota

Additional Requestors and Disposition

Representatives of any Indian tribe that believes itself to be culturally affiliated with the human remains or any other Indian tribe that believes it satisfies the criteria in 43 CFR 10.11(c)(1) should contact James L. (Jim) Jones, Cultural Resource Director, Minnesota Indian Affairs Council, 3801 Bemidji Avenue NW., Suite 5, Bemidji, MN 56601, telephone (218) 755-3223, before February 13, 2012. Disposition of the human remains to the White Earth Band of Minnesota Chippewa Tribe, Minnesota may proceed after that date if no additional requestors come forward.

The Minnesota Indian Affairs Council is responsible for notifying the Leech Lake Band of the Minnesota Chippewa Tribe, Minnesota; the Minnesota Chippewa Tribe, Minnesota; the Red Lake Band of Chippewa Indians, Minnesota; the Turtle Mountain Band of Chippewa Indians of North Dakota; and the White Earth Band of Minnesota Chippewa Tribe, Minnesota that this notice has been published.

Dated: January 9, 2012.
Sherry Hutt,
Manager, National NAGPRA Program.

[FR Doc. 2012-512 Filed 1-12-12; 8:45 am]

BILLING CODE 4312-50-P